DEPARTMENT OF ENERGY

Federal Energy Regulatory Commission

Combined Notice of Filings #2

Take notice that the Commission received the following electric rate filings:

Docket Numbers: ER10-1513-001.

Applicants: Wolverine Power Supply Cooperative, Inc.

Description: Amended Market Power Update of Wolverine Power Supply Cooperative, Inc.

Filed Date: 3/9/12.

Accession Number: 20120309-5160.

Comments Due: 5 p.m. ET 4/10/12.

Docket Numbers: ER10-3199-001.

Applicants: Montana-Dakota Utilities Co., a Division.

Description: Request of Montana-Dakota Utilities Co., a Division of MDU Resources Group Inc.

Filed Date: 3/20/12.

Accession Number: 20120320-5112.

Comments Due: 5 p.m. ET 4/10/12.

Docket Numbers: ER12-1189-001.

Applicants: DeWind Novus, LLC.

Description: Amended MBR Tariff Filing to be effective 4/30/2012.

Filed Date: 3/20/12.

Accession Number: 20120320-5115.

Comments Due: 5 p.m. ET 4/3/12.

Docket Numbers: ER12-1292-000.

Applicants: Goshen Phase II LLC.

Description: Amended and Restated SFA to be effective 12/31/9998.

Filed Date: 3/20/12.

Accession Number: 20120320-5000.

Comments Due: 5 p.m. ET 4/10/12.

Docket Numbers: ER12-1294-000.

Applicants: PJM Interconnection, L.L.C.

Description: Notice of Cancellation of Service Agreement 2949 in Docket No. ER11-3890-000 to be effective 1/31/2012.

Filed Date: 3/20/12.

Accession Number: 20120320-5062.

Comments Due: 5 p.m. ET 4/10/12.

Docket Numbers: ER12-1295-000.

Applicants: PJM Interconnection, L.L.C.

Description: Notice of Cancellation of SA No. 2841 under Docket No. ER11-3347-000 to be effective 2/29/2012.

Filed Date: 3/20/12.

Accession Number: 20120320-5064.

Comments Due: 5 p.m. ET 4/10/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2012.
Nathaniel J. Davis, Sr.,
Deputy Secretary.

[FR Doc. 2012-7776 Filed 3-30-12; 8:45 am]

BILLING CODE 6717-01-P